DEPARTMENT OF THE INTERIOR

Bureau of Reclamation

Lower Santa Ynez River Fish Management Plan and Cachuma Project Biological Opinion for Southern Steelhead Trout, Santa Barbara County, CA

AGENCY: Bureau of Reclamation, Interior.

ACTION: Notice of extension of comment period on Draft Environmental Impact Statement/Environmental Impact Report (EIS/EIR).

SUMMARY: The Bureau of Reclamation, the lead Federal agency, and Cachuma Operations and Maintenance Board (COMB), the State lead agency, are extending the comment period for 15 days on the Draft EIS/EIR. The original notice was published in the Federal Register on July 24, 2003, (68 FR 43748).

DATES: Public comments on the Draft EIS/EIR are to be submitted on or before September 30, 2003.

ADDRESSES: Address written comments on the Draft EIS/EIR to Mr. David Young, Bureau of Reclamation, 1243 N Street, Fresno, California 93721; or to Ms. Kate Rees, 3301 Laurel Canyon Road, Santa Barbara, California 93105-2017.

FOR FURTHER INFORMATION CONTACT: Mr. David Young, Reclamation, at 559-487-5127, for the hearing impaired at 559-487-5933, or by email dkyoung@mp.usbr.gov. You may also contact Ms. Kate Rees, COMB, at 805-569-1391 or by email krees@cachuma-board.org.

SUPPLEMENTARY INFORMATION: Our practice is to make comments, including names and home addresses of respondents, available for public review. Individual respondents may request that we withhold their home address from public disclosure, which we will honor to the extent allowable by law. There may be other circumstances in which we would withhold a respondent's identity from public disclosure, as allowable by law. If you wish us to withhold your name and/or address, you must state this prominently at the beginning of your comment. Reclamation will make all submissions from organizations or businesses, and from individuals identifying themselves as representatives or officials of organizations or businesses, available for public disclosure in their entirety.

Dated: September 15, 2003.
Frank Michny,
Regional Environmental Officer, Mid-Pacific Region.

[FR Doc. 03-28728 Filed 11-17-03; 8:45 am]

BILLING CODE 4310-MN-P